DEPARTMENT OF JUSTICE

Bureau of Prisons

Annual Determination of Average Cost of Incarceration Fee (COIF)

AGENCY: Bureau of Prisons, Justice.

ACTION: Notice.

SUMMARY: This Notice publishes the Fiscal Year (FY) 2019 and 2020 Cost of Incarceration Fee (COIF) for Federal inmates.

DATES: September 1, 2021.

ADDRESSES: Office of General Counsel, Federal Bureau of Prisons, 320 First St. NW, Washington, DC 20534.

FOR FURTHER INFORMATION CONTACT: Sarah Qureshi, (202) 353-8248.

SUPPLEMENTARY INFORMATION: Title 28 of the Code of Federal Regulations, part 505, allows for assessment of a fee to cover the average cost of incarceration for Federal inmates. We calculate the cost of incarceration fee (COIF) by dividing the number representing the Bureau of Prisons (Bureau) facilities' monetary obligation (excluding activation costs) by the number of inmate-days incurred for the fiscal year, and then by multiplying the quotient by the number of days in the fiscal year.

Based on FY 2019 data, the average annual COIF for a Federal inmate in a Federal facility in FY 2019 was $35,347 ($107.85 per day). The average annual COIF for a Federal inmate in a Residential Reentry Center for FY 2019 was $39,924 ($109.38 per day). (Please note: There were 365 days in FY 2019.)

Based on FY 2020 data, the average annual COIF for a Federal inmate in a Federal facility in FY 2020 was $39,158 ($120.59 per day). The average annual COIF for a Federal inmate in a Residential Reentry Center for FY 2020 was $35,663 ($97.44 per day). (Please note: There were 365 days in FY 2020.)

Ken Hyle,
Assistant Director/General Counsel, Federal Bureau of Prisons.

[FR Doc. 2021-18800 Filed 8-31-21; 8:45 am]

BILLING CODE 4410-05-P